DEPARTMENT OF TRANSPORTATION

Research and Special Programs Administration

Pipeline Safety: Gas and Hazardous Liquid Pipeline Mapping

AGENCY: Research and Special Programs Administration (RSPA), DOT.

ACTION: Notice; issuance of advisory bulletin.

SUMMARY: The Research and Special Programs Administration's (RSPA) Office of Pipeline Safety (OPS) is issuing this advisory to gas distribution, gas transmission, and hazardous liquid pipeline systems. Owners and operators should review their information and mapping systems to ensure that the operator has clear, accurate, and useable information on the location and characteristics of all pipes, valves, regulators, and other pipeline elements for use in emergency response, pipe location and marking, and pre-construction planning. This includes ensuring that construction records, maps, and operating history are readily available to appropriate operating, maintenance, and emergency response personnel.

FOR FURTHER INFORMATION CONTACT: Richard Huriaux, (202) 366-4565; Steve Fischer, (202) 366-6267; or by e-mail, steve.fischer@rspa.dot.gov. This document can be viewed at the OPS home page at http://ops.dot.gov.

SUPPLEMENTARY INFORMATION:

I. Background

The need for accurate maps of pipeline systems has been highlighted by pipeline accidents in which the lack of accurate maps contributed to an accident or inhibited effective emergency response. The National Transportation Safety Board's (NTSB) Safety Recommendation P-87-34 urged RSPA to revise the pipeline safety regulations “to require that gas company system maps and records be maintained accurately to identify the locations, size, and operation[al] pressure of all their pipelines.” Most recently, in Safety Recommendation P-97-19, NTSB emphasized the need for RSPA/OPS to “develop mapping standards for a common [pipeline] mapping system, with a goal to actively promote its widespread use.” NTSB recommends that pipeline mapping should consider the amount of detail and the accuracy of information necessary for effective use.

These recommendations resulted from a series of accidents in which a lack of accurate maps played a role. A typical problem described by the NTSB included workers at a college campus in Connecticut that searched for more than a half hour to find the shut-off valve after excavation damage to a telephone cable. The gas line and valves were not marked on maps. Another was the 1996 gas explosion in San Juan, Puerto Rico, which resulted in 33 fatalities and 69 injuries. A lack of accurate information on and maps of the underground piping system was cited as a factor contributing to this excavation-caused accident.

NTSB noted that damage prevention programs often use many different types of maps, ranging from city road maps to grid systems based on State coordinate systems. Pipeline engineers, maintenance workers, repair crews, and emergency responders are forced to use a variety of data sources to locate underground piping and facilities, including land use maps, zoning maps, tax assessor maps, easement descriptions, highway and transportation network maps, topographic maps, construction permit drawings, construction plans, and aerial photographs.

NTSB also noted that different utilities and pipeline companies may use maps that vary in scale, resolution, data formats, notational systems, and accuracy. Some pipelines have imaged older paper-based diagrams and maps and some have developed fully digitized mapping systems. The accuracy of the underlying information on these maps is often problematical. For example, the digital maps may not reflect the uncertainties inherent in the original paper source maps. In addition, many mapping systems lack any information on abandoned facilities, without which excavators may mistake the abandoned facility for an active, potentially dangerous, pipeline.

Maps and other locational records maintained by gas companies and other underground facility operators are the most common source of information about these facilities. The pipeline safety regulations for both gas and hazardous liquid operators require operators to (1) Maintain current records and maps of the location of their facilities for use in operations, maintenance, and emergency response activities (e.g., surveillance, leak surveys, cathodic protection, abnormal operations response, etc.); (2) establish active damage prevention programs, including participation in local one-call notification programs, outreach to local construction and excavation companies, ensuring accurate location and marking of pipeline facilities, and explanation of this system of markings to persons who give notice of their intent to excavate near a pipeline; and, (3) hire and train employees and contractors to safely perform their duties, including both routine and emergency operations.

All gas and hazardous liquid pipeline operators must maintain an operating and maintenance plan that includes procedures for making construction records, maps, and operating history available to appropriate operating personnel to enable them to safely and effectively perform their duties (49 CFR 192.605 and 195.402). Furthermore, the hazardous liquid pipeline regulations at 49 CFR 195.404 explicitly require that the maps and records must include, at a minimum, the following information:

(1) Location and identification of pipeline facilities.

(2) All crossings of public roads, railroads, rivers, buried utilities, and foreign pipelines.

(3) The maximum operating pressure of each pipeline.

(4) The diameter, grade, type, and nominal wall thickness of all pipe. Not all this information need be on maps, but must be readily available to appropriate personnel.

Operators also need to ensure that abandoned facilities are not inadvertently identified as active. This is especially important in locating gas mains and service lines in congested urban environments. Operator maps that are used for one-call response and pipeline location and marking should clearly distinguish pipelines that do or could contain gas or hazardous liquids (pipeline that have not been purged and cleaned and are available for service on short notice) from those lines that are abandoned (purged, cleaned, and pipe ends sealed) and do not contain gas or hazardous liquids.

Operators have a responsibility to maintain construction records, maps, and operating history and to make this information available to appropriate operating personnel to enable them to safely and effectively perform their duties. Therefore, RSPA/OPS is issuing this advisory bulletin to all pipeline operators to emphasize the operator's responsibility to: (1) Accurately locate and clearly mark key pipeline features and other information needed for effective emergency response on company maps and records; (2) keep these maps and records up-to-date as pipeline construction and modifications take place; (3) be knowledgeable about their abandoned lines and to keep data on their location to further eliminate confusion with active lines during construction or emergency response activities; and (4) communicate pipeline information and maps to appropriate operating, maintenance, and emergency response personnel.

RSPA/OPS has been working to develop a national mapping system for use by Federal and State pipeline inspectors. The National Pipeline Mapping System (NPMS) collects selected data on natural gas transmission and hazardous liquid pipelines. The NPMS data standards are consistent with the policies of the Federal Geographic Data Committee (FGDC) and the mapping application uses commercial mapping software. Although the data submissions to the NPMS are limited in comparison to the requirements for the detailed maps used by pipeline operators, these standards emphasize the importance of using accurate geospatial data, multiuser access, and standardized pipeline mapping data. RSPA's/OPS's intention in creating a mapping standard is to harmonize efforts across federal and state agencies to set criteria for map quality and to have a uniform standard for various mapping purposes.

Another initiative to improve the accuracy of information in pipeline location is RSPA's/OPS's issuance of a Broad Agency Announcement (BAA) for research and development proposals on damage prevention and leak detection, including development of advanced pipe location technologies. Furthermore, RSPA/OPS is finalizing a Cooperative Agreement with the Common Ground Alliance (CGA) to assist with public education at the national, state, and local levels and to provide state and local officials with information and tools to help their residents live safely with pipelines, and to become familiar with pipeline locations. The CGA is examining and promoting practices that have proven to effectively reduce the risk of damage to underground facilities, including pipeline data and mapping systems. We urge all pipeline operators to contribute to pipeline research and development on location technologies and to work with CGA to improve and standardize pipeline mapping systems. This includes the promotion of consistent mapping symbols for pipeline components and common notational systems.

We are also working with our inspectors and our pipeline safety partners in the National Association of Pipeline Safety Representatives to focus during standard inspections on ensuring that operators are maintaining clear and current records and maps. Moreover, we are also ensuring during inspections of operator qualification programs that pipeline operations and maintenance workers have demonstrated their ability to use company maps and records for timely and decisive emergency response, as well as to support accurate underground facility marking. We recognize that operators and excavators should never rely solely on maps before beginning an excavation near a buried utility, but should fully comply with state underground excavation laws and pipe locating technologies.

II. Advisory Bulletin (ADB-02-03)

To: Owners and Operators of Gas Distribution Systems.

Subject: Gas and Hazardous Liquid Pipeline Mapping.

Purpose: To advise owners and operators of gas distribution, gas transmission, and hazardous liquid pipeline systems of the need to maintain and review construction records, maps, and operating history, and to make this information available to operating, maintenance, and emergency response personnel.

Advisory: Owners and operators of gas distribution, gas transmission, and hazardous liquid pipeline systems should ensure that accurate construction records, maps, and operating history are available to appropriate operating, maintenance, and emergency response personnel. The maps or associated records should provide the following information:

(1) Location and identification of pipeline facilities, including key features needed in emergency response.

(2) Crossings of roads, railroads, rivers, buried utilities, and pipelines.

(3) The maximum operating pressure of each pipeline.

(4) The diameter, grade, type, and nominal wall thickness of pipe.

RSPA urges every pipeline operator to (1) accurately locate and clearly mark on company maps and records key pipeline features and other information needed for effective emergency response; (2) keep these maps and records up-to-date as pipeline construction and modifications take place; (3) ensure that its personnel are knowledgeable about the location of abandoned pipelines and to keep data on their location in order to further eliminate confusion with active pipelines during construction or emergency response activities; and (4) communicate pipeline information and maps to appropriate operating, maintenance, and emergency response personnel. Operators are also encouraged to collaborate with the Common Ground Alliance and the Federal and State pipeline safety programs to improve all phases of underground facility damage prevention, including improved mapping standards; and to work toward developing and using, to the maximum feasible extent, consistent mapping symbols and notational systems.

Issued in Washington, DC, on June 6, 2002.
Stacey L. Gerard,
Associate Administrator for Pipeline Safety.

[FR Doc. 02-14955 Filed 6-12-02; 8:45 am]

BILLING CODE 4910-60-P